DEPARTMENT OF EDUCATION

[Docket No.: ED-2018-ICCD-0127]

Agency Information Collection Activities; Comment Request; National Longitudinal Transition Study 2012 Phase II

AGENCY: Institute of Education Sciences (IES), Department of Education (ED).

ACTION: Notice.

SUMMARY: In accordance with the Paperwork Reduction Act of 1995, ED is proposing an extension of an existing information collection.

DATES: Interested persons are invited to submit comments on or before February 1, 2019.

ADDRESSES: To access and review all the documents related to the information collection listed in this notice, please use http://www.regulations.gov by searching the Docket ID number ED-2018-ICCD-0127. Comments submitted in response to this notice should be submitted electronically through the Federal eRulemaking Portal at http://www.regulations.gov by selecting the Docket ID number or via postal mail, commercial delivery, or hand delivery. Please note that comments submitted by fax or email and those submitted after the comment period will not be accepted. Written requests for information or comments submitted by postal mail or delivery should be addressed to the Director of the Information Collection Clearance Division, U.S. Department of Education, 550 12th Street SW, PCP, Room 9089, Washington, DC 20202-0023.

FOR FURTHER INFORMATION CONTACT: For specific questions related to collection activities, please contact Yumiko Sekino, 202-374-0936.

SUPPLEMENTARY INFORMATION: The Department of Education (ED), in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed information collection request (ICR) that is described below. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: National Longitudinal Transition Study 2012 Phase II.

OMB Control Number: 1850-0882.

Type of Review: An extension of an existing information collection.

Respondents/Affected Public: Individuals or Households.

Total Estimated Number of Annual Responses: 21,757.

Total Estimated Number of Annual Burden Hours: 13,345.

Abstract: The National Longitudinal Transition Study 2012 (NLTS 2012) is the third in a series of studies being conducted by the U.S. Department of Education (ED), with the goal of describing the characteristics, secondary school experiences, transition, and outcomes of youth who receive special education services under IDEA. Phase II of NLTS 2012 will utilize high school and post-high school administrative records data to collect information in three broad areas important to understanding outcomes for youth with disabilities: (1) High school course-taking and completion (2) post-secondary education and training, and (3) employment and earnings after high school. Phase II collected information will build on a survey of a nationally representative set of students with and without IEPs from Phase I of the study to address the following questions:

• To what extent do youth with disabilities who receive special education services under IDEA make progress through high school compared with other youth, including those identified for services under Section 504 of the Rehabilitation Act? For students with disabilities, has high school course taking and completion rates changed over the past few decades?

• Are youth with disabilities achieving the post-high school outcomes envisioned by IDEA, and how do their college, training, and employment rates compare with those of other youth?

• How do these high school and postsecondary experiences and outcomes vary by student characteristics, including their disability category, age, sex, race/ethnicity, English Learner status, income status, and type of high school attended (including regular public school, charter school, career/technical school, special education school, or other State or Federally-operated institution)?

The NLTS 2012 sample includes 21,959 students ranging in age from 13 to 21 in December 2011. The sample was selected to include sufficient number of students in each of the 12 federally defined disability categories, and adequate number of students without disabilities, including both students with a Section 504 plan and students with neither an IEP nor a Section 504 plan. To meet the study's objective, data will be collected from the following sources: (1) School district administrative records, including transcripts, from districts participating in NLTS 2012; (2) postsecondary enrollment information through the National Student Clearinghouse, (3) student financial aid data from ED's Federal Student Aid Office (FSA), (4) employment and earnings data from the Social Security Administration (SSA); and (5) information about vocational rehabilitative services and supports youth received from ED's Rehabilitative Services Administration (RSA). Data collection activities expected to result in public burden are the collection of administrative data from school districts and requests for consent from sample members and their parents.

Dated: November 28, 2018.
Stephanie Valentine,
Acting Director, Information Collection Clearance Division, Office of the Chief Privacy Officer, Office of Management.

[FR Doc. 2018-26197 Filed 11-30-18; 8:45 am]

BILLING CODE 4000-01-P